DEPARTMENT OF COMMERCE

National Oceanic and Atmospheric Administration

RIN 0648-XD176

New England Fishery Management Council; Public Meeting

AGENCY: National Marine Fisheries Service (NMFS), National Oceanic and Atmospheric Administration (NOAA), Commerce.

ACTION: Notice; public meetings.

SUMMARY: The New England Fishery Management Council (Council) is scheduling a public meeting of its Groundfish Advisory Panel and its Groundfish Oversight Committee to consider actions affecting New England fisheries in the exclusive economic zone (EEZ). Recommendations from these groups will be brought to the full Council for formal consideration and action, if appropriate.

DATES: These meetings will be held on Tuesday, April 1, 2014 at 10 a.m. and Friday, April 4, 2014 at 9 a.m.

ADDRESSES:

Meeting address: The meetings will be held at the Sheraton Colonial, One Audubon Road Wakefield, MA 01880; phone: (781) 245-9300; fax: (781) 245-0842.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Tuesday, April 1, 2014 Beginning at 10 a.m.—Groundfish Advisory Panel (GAP)

The Groundfish Advisory Panel (GAP) will meet to discuss draft alternatives for consideration in Amendment 18 (A18), an amendment to address fleet diversity and accumulation limits in the commercial groundfish fishery; and develop recommendations to the Groundfish Oversight Committee (OSC) on the A18 draft alternatives. They will also discuss draft alternatives for Framework Adjustment 52 (FW 52), a narrow and focused framework to revise commercial groundfish fishery accountability measures for Southern windowpane flounder and Northern windowpane flounder stocks; and develop recommendations to the Groundfish OSC on the FW 52 draft alternatives. They will receive an update from the Northeast Fisheries Science Center on progress for the empirical benchmark assessment for Georges Bank yellowtail flounder. Other business may be discussed.

Friday, April 4, 2014 Beginning at 9 a.m.—Groundfish Oversight Committee

The Groundfish Oversight Committee (OSC) will meet to discuss draft alternatives for consideration in A18; review work from the Groundfish Plan Development Team (PDT) related to A18; review GAP recommendations on the A18 draft alternatives; and develop recommendations to the Council on the A18 alternatives to include in the DEIS for analysis. They will also discuss draft alternatives for consideration in FW 52; review work from the PDT related to FW 52; review GAP recommendations on the FW 52 draft alternatives; and develop recommendations to the Council on the FW 52 alternatives to include in the DEA for analysis. This meeting may be considered the first framework adjustment meeting for this action but this determination is currently under review. Other business may be discussed as necessary.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: March 11, 2014.
Tracey L. Thompson,
Acting Deputy Director, Office of Sustainable Fisheries, National Marine Fisheries Service.

[FR Doc. 2014-05643 Filed 3-13-14; 8:45 am]

BILLING CODE 3510-22-P